SOCIAL SECURITY ADMINISTRATION

[Docket No. SSA-2022-0020]

Maximum Dollar Limit in the Fee Agreement Process

AGENCY: Social Security Administration.

ACTION: Notice.

SUMMARY: We are increasing the maximum dollar amount limit for fee agreements approved under the Social Security Act (the Act) to $7,200. Effective November 30, 2022, we may approve fee agreements up to the new dollar limit, provided that the fee agreement otherwise meets the statutory conditions of the agreement process.

DATES: We will apply this notice beginning on November 30, 2022.

FOR FURTHER INFORMATION CONTACT: Mary Quatroche, Office of Vocational, Evaluation, and Process Policy in the Office of Disability Policy, Social Security Administration, 6401 Security Boulevard, Baltimore, MD 21235-6401 (410)-966-4794.

For information on eligibility or filing for benefits, call SSA's national toll-free number, 1-800-772-1213 or TTY 1-800-325-0778, or visit SSA's internet site, Social Security Online at http://www.socialsecurity.gov.

SUPPLEMENTARY INFORMATION: The Act provides a streamlined process for a representative to obtain approval of the fee the representative wishes to charge for representing a claimant before us.¹ To use that process, the representative(s) and the claimant must agree, in writing, to a fee that does not exceed the lesser of 25 percent of past due benefits or a prescribed dollar amount. Section 5106 of the Omnibus Budget Reconciliation Act (OBRA) of 1990, Public Law 101-508, set the initial fee amount at $4,000 and gave the Commissioner the authority to increase it periodically, provided that the cumulative rate of increase did not at any time exceed the rate of increase in the primary insurance amount (PIA) since January 1, 1991. The law further provided that notice of any increased amount shall be published in the Federal Register. On February 4, 2009, we published a notice raising the maximum fee to $6,000, effective June 22, 2009, which is the current maximum dollar amount for fee agreements.²

¹ 42 U.S.C. 406(a) and 1383(d)(2)(A).

² 74 FR 6080 (2009).

With this notice, we announce that the maximum dollar amount for fee agreements will increase to $7,200, effective November 30, 2022. This increase does not exceed the rate of increase provided in the OBRA of 1990. We expect that this increase will compensate representatives for their services while ensuring claimants are protected from excessive fees.

In setting the new cap, we considered a number of factors, including: feedback we received about the current fee cap, the Cost of Living Adjustment rates, PIAs, data about fees authorized under the current fee cap, increases in disability benefits, data about case backlogs, and the effects on our claimants.

Beginning November 30, 2022, decision makers may approve a fee agreement up to the new dollar limit if the fee agreement meets the statutory conditions for approval, no exceptions to the fee agreement process exist, and the favorable determination or decision is issued on or after this date. We are setting this date to ensure there is adequate time to provide training and guidance to our employees and to make necessary changes in our information technology infrastructure.

The Acting Commissioner of Social Security, Kilolo Kijakazi, Ph.D., M.S.W., having reviewed and approved this document, is delegating the authority to electronically sign this document to Faye I. Lipsky, who is the primary Federal Register Liaison for the Social Security Administration, for purposes of publication in the Federal Register.

Faye I. Lipsky,
Federal Register Liaison, Office of Legislation and Congressional Affairs, Social Security Administration.

[FR Doc. 2022-13996 Filed 6-29-22; 8:45 am]

BILLING CODE 4191-02-P